FEDERAL COMMUNICATIONS COMMISSION

47 CFR Part 64

[CG Docket No. 10-51; FCC 11-118]

Structure and Practices of the Video Relay Service Program

AGENCY: Federal Communications Commission.

ACTION: Interim rule; announcement of effective date.

SUMMARY: In this document, the Commission announces that the Office of Management and Budget (OMB) has approved, for a period of three years, the information collection associated with the Commission's Structure and Practices of the Video Relay Service Program, Second Report and Order and Order (Second Report and Order and Order). The information collection requirements were approved on October 20, 2011 by OMB.

DATES: The amendments to 47 CFR 64.606(a)(2)(v) and (g)(2), published at 76 FR 47476, August 5, 2011, are effective November 3, 2011.

FOR FURTHER INFORMATION CONTACT: Gregory Hlibok, Disability Rights Office, Consumer and Governmental Affairs Bureau, at (202) 559-5158 (voice and videophone), or email: Gregory.Hlibok@fcc.gov.

SUPPLEMENTARY INFORMATION: This document announces that, on October 20, 2011, OMB approved, for a period of three years, the information collection requirements contained in 47 CFR 64.606(a)(2)(v) and (g)(2). The Commission publishes this notice as an announcement of the effective date of the rules. See, In the Matter of Structure and Practices of the Video Relay Service Program, CG Docket No. 10-51, FCC 11-118, published at 76 FR 47476, August 5, 2011. If you have any comments on the burden estimates listed below, or how the Commission can improve the collections and reduce any burdens caused thereby, please contact Cathy Williams, Federal Communications Commission, Room 1-C823, 445 12th Street SW., Washington, DC 20554. Please include the OMB Control Number, 3060-1160, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on October 20, 2011, for the information collection requirements contained in the Commission's rules at 47 CFR 64.606(a)(2)(v) and (g)(2).

Under 5 CFR 1320, an agency may not conduct or sponsor a collection of information unless it displays a current, valid OMB Control Number.

No person shall be subject to any penalty for failing to comply with a collection of information subject to the Paperwork Reduction Act that does not display a current valid OMB Control Number. The OMB Control Number is 3060-1160.

The foregoing notice is required by the Paperwork Reduction Act of 1995, Pub. L. 104-13, October 1, 1995, and 44 U.S.C. 3507.

The total annual reporting burdens and costs for the respondents are as follows:

OMB Control Number: 3060-1160.

OMB Approval Date: October 20, 2011.

OMB Expiration Date: April 30, 2012.

Title: Structure and Practices of the Video Relay Service Program, Second Report and Order and Order, CG Docket No. 10-51.

Form Number: N/A.

Type of Review: New collection.

Respondents: Business or other for-profit.

Number of Respondents and Responses: 31 respondents; 53 responses.

Estimated Time per Response: .017 (1 minute) to .50 hours (30 minutes).

Frequency of Response: Annual and one-time reporting requirements; and third party disclosure requirement.

Obligation to Respond: Required to obtain or retain benefit. The statutory authority for the information collection requirements is found at section 225 of the Communications Act, 47 U.S.C. 225. The law was enacted on July 26, 1990, as Title IV of the Americans with Disabilities Act, Public Law 101-336, 104 Stat. 327, 366-69.

Total Annual Burden: 6 hours.

Total Annual Cost: None.

Nature and Extent of Confidentiality: An assurance of confidentiality is not offered because this information collection does not require the collection of personally identifiable information (PII) from individuals.

Privacy Impact Assessment: No impact(s).

Needs and Uses: On July 28, 2011 the Commission released Second Report and Order and Order FCC 11-118, published at 76 FR 47476, August 5, 2011, adopting final and interim rules—containing information collection requirements—designed to prevent fraud and abuse, and ensure that the Internet-based forms of Telecommunications Relay Services (iTRS) is being offered in compliance with all of the Commission's rules and orders. Specifically, the interim rules, described in A. and B. below, require that applicants and providers certify, under penalty of perjury, that their certification applications and annual compliance filings required under §§ 64.606(a)(2) and 64.606(g) of the Commission's rules are truthful, accurate, and complete. The final rules, described in C. and D. below, are designed to enhance disclosures to iTRS consumers so that they are better aware of service terminations or temporary cessations.

Below are the information collection requirements contained in the Second Report and Order and Order:

A. Applicant Certifying Under Penalty of Perjury for Certification Application

The chief executive officer (CEO), chief financial officer (CFO), or other senior executive of an applicant for iTRS certification with first hand knowledge of the accuracy and completeness of the information provided, when submitting an application for certification for eligibility to receive compensation from the Intestate TRS Fund, must certify under penalty of perjury that all application information required under the Commission's rules and orders has been provided and that all statements of fact, as well as all documentation contained in the application submission, are true, accurate, and complete.

B. Certified Provider Certifying Under Penalty of Perjury for Annual Compliance Filings

The chief executive officer (CEO), chief financial officer (CFO), or other senior executive of an iTRS provider with first hand knowledge of the accuracy and completeness of the information provided, when submitting an annual compliance report under paragraph (g) of § 64.606 of the Commission's rules, must certify under penalty of perjury that all information required under the Commission's rules and orders has been provided and all statements of fact, as well as all documentation contained in the annual compliance report submission, are true, accurate, and complete.

C. Notification of Service Cessation

The applicant for certification must give its customers at least 30 days notice that it will no longer provide service should the Commission determine that the applicant's certification application does not qualify for certification under paragraph (a)(2) of § 64.606 of the Commission's rules.

D. Notification on Web Site

The provider must provide notification of temporary service outages to consumers on an accessible Web site, and the provider must ensure that the information regarding service status is updated on its Web site in a timely manner.

Federal Communications Commission.
Marlene H. Dortch,
Secretary, Office of the Secretary, Office of the Managing Director.

[FR Doc. 2011-28449 Filed 11-2-11; 8:45 am]

BILLING CODE 6712-01-P